DEPARTMENT OF COMMERCE

National Oceanic and Atmospheric Administration

50 CFR Part 648

[Docket No. 240314-0080; RTID 0648-XE842]

Fisheries of the Northeastern United States; Atlantic Sea Scallop Fishery; 2025 Closure of the Northern Gulf of Maine Scallop Management Area to the Limited Access General Category Fishery

AGENCY: National Marine Fisheries Service (NMFS), National Oceanic and Atmospheric Administration (NOAA), Department of Commerce.

ACTION: Temporary rule; closure.

SUMMARY: NMFS announces the closure of the Northern Gulf of Maine (NGOM) Scallop Management Area for the remainder of the 2025 fishing year. After reviewing final harvest information, the area may be reopened by Framework 39, if approved, for Limited Access General Category vessels. Subject to specific enumerated exceptions, possession, retention, or landing of scallops is prohibited in the NGOM Scallop Management Area once the Regional Administrator publishes a notification in the Federal Register that the NGOM Set-Aside has been reached. This action is intended to prevent the overharvest of the 2025 NGOM Set-Aside.

DATES: Effective 1800 hour local time, April 16, 2025, through March 31, 2026.

FOR FURTHER INFORMATION CONTACT: Ashley Trudeau, Fishery Resource Management Specialist, (978) 281-9252.

SUPPLEMENTARY INFORMATION: The regulations governing fishing activity in the NGOM Scallop Management Area are located in 50 CFR 648.54 and 648.62. These regulations authorize vessels issued a valid Federal scallop permit to fish in the NGOM Scallop Management Area under specific conditions, including the NGOM Set-Aside for the 2025 fishing year, and a State Waters Exemption Program for the State of Maine and Commonwealth of Massachusetts. Section 648.62(b)(2) requires the NGOM Scallop Management Area to be closed to scallop vessels issued Federal Limited Access General Category (LAGC) scallop permits, except as provided below, once the NMFS Greater Atlantic Regional Administrator provides notice that 100 percent of the NGOM Set-Aside has been harvested. Any vessel that holds a Federal NGOM (LAGC B) or Individual Fishing Quota (IFQ) (LAGC A) permit may continue to fish in the Maine or Massachusetts state waters portion of the NGOM Scallop Management Area under the State Waters Exemption Program found in § 648.54 provided it has a valid Maine or Massachusetts state scallop permit and fishes only in that state's respective waters.

Based on trip declarations by federally permitted LAGC scallop vessels fishing in the NGOM Scallop Management Area and analysis of fishing effort, NMFS projects that the default 2025 NGOM Set-Aside has been harvested. Thus, in accordance with § 648.62(b)(2), the NGOM Scallop Management Area is closed to all federally permitted LAGC scallop vessels as of the effective date and time of this action, the quickest date NMFS was able to close. As of this date, no vessel issued a Federal LAGC scallop permit may fish for, possess, or land scallops in or from the NGOM Scallop Management Area after the effective date and time of this action, unless the vessel is fishing exclusively in state waters and is participating in an approved state waters exemption program as specified in § 648.54. Any federally permitted LAGC scallop vessel that has declared into the NGOM Scallop Management Area, complied with all trip notification and observer requirements, and crossed the vessel monitoring system demarcation line on the way to the area before the effective date and time of this action, may complete its trip and land scallops. This closure is in effect until the end of the 2025 scallop fishing year, through March 31, 2026, or until replaced by Framework 39, if approved and appropriate.

The proposed rule for Framework Adjustment 39 to the Atlantic Sea Scallop Fishery Management Plan (90 FR 12510) published on March 18, 2025, and the public comment period ended on April 2, 2025. Framework 39 would increase the NGOM set-aside from the current default allocation of 315,449 lb (143 mt) to 675,563 lb (306 mt). If Framework 39 is approved, the final rule implementing final 2025 scallop fishery specification would subtract NGOM harvest made under the default specifications from the Framework 39 2025 NGOM Set-Aside amount and reopen the NGOM Management Area, if appropriate given the landings already accrued, with the remaining NGOM Set-Aside for the remainder of fishing year 2025.

Classification

This action is required by 50 CFR part 648 and is exempt from review under Executive Order 12866.

The Assistant Administrator for Fisheries finds good cause pursuant to 5 U.S.C. 553(b)(B) to waive prior notice and the opportunity for public comment because it would be contrary to the public interest and impracticable. NMFS also finds, pursuant to 5 U.S.C. 553(d)(3), good cause to waive the 30-day delayed effectiveness period. Exigent circumstances necessitate this closure action and any delay would harm the public interest. The NGOM Scallop Management Area opened for the 2025 fishing year on April 1, 2025, under default measures implemented under Framework Adjustment 38 (89 FR 20341, March 22, 2024). Applicable regulations at § 648.60(b)(2) require this closure to ensure that federally permitted scallop vessels do not harvest more than the allocated NGOM Set-Aside. However, NMFS can only make projections for the NGOM closure date as trips into the area occur on a real-time basis and as activity trends appear. As a result, accurate projections are only available shortly before the set-aside is harvested. Since the April 1, 2025, opening, scallops have been harvested at an average rate of 33,800 lb (1533 kg) per day with a resulting estimated harvest of 198,000 lb (89,811 kg), 63 percent of the NGOM Set-Aside. The rapid harvest rate that has occurred does not allow for projections far enough in advance that would allow for notice of a proposed rule, a comment period, or a delay in rule effectiveness. Accordingly, earlier rule publication was not possible. Allowing federally permitted LAGC scallop vessels to continue taking trips in the NGOM Scallop Management Area during the period necessary to publish and receive comments on a proposed rule, or delay rule effectiveness, would result in vessels harvesting more than the 2025 NGOM Set-Aside for the NGOM Scallop Management Area. This would result in excessive fishing effort in the area thereby undermining conservation and management objectives of the Atlantic Sea Scallop Fishery Management Plan and requiring more restrictive future management measures to make up for the excessive harvest. Applicable regulations at § 648.62(b)(3) require that overages of the NGOM set-aside are subject to pound-for-pound payback in a subsequent fishing year. In addition, reductions in NGOM scallop biomass associated with excessive harvest would result in lower NGOM total allowable landings in future years. As such, delaying this closure action to afford the public with a comment period or a delay in effectiveness would harm the public. The public had prior notice and full opportunity to comment on this closure process during notice and comment rulemaking for Framework 38. Stakeholders are also aware that NMFS closes the NGOM Scallop Management Area when it projects the NGOM Set-Aside is fully harvested. This process occurs annually dating back to the adoption of Amendment 11 to the Scallop FMP in 2007. As stated above, any scallop vessel that has declared into the NGOM Scallop Management Area, complied with all trip notification and observer requirements, and crossed the vessel monitoring system demarcation line on the way to the area before the effective date of this closure, may complete its trip and land scallops. Therefore, those affected by this regulation are given the reasonable opportunity to complete a trip in progress and those who have not begun any such trip do not need 30 days in which to comply with the effective date of this closure, because the rule prohibits them from taking action they have not yet taken.

Authority: 16 U.S.C. 1801 et seq.

Dated: April 11, 2025.
Kelly Denit,
Acting Director, Office of Sustainable Fisheries, National Marine Fisheries Service.

[FR Doc. 2025-06444 Filed 4-11-25; 4:15 pm]

BILLING CODE 3510-22-P